DEPARTMENT OF ENERGY

Federal Energy Regulatory Commission

[Docket No. RP00-288-001]

Kern River Gas Transmission Company; Notice of Compliance Filing

July 18, 2000.

Take notice that on July 13, 2000, Kern River Gas Transmission Company (Kern River) tendered for filing as part of its FERC Gas Tariff, Second Revised Volume No. 1 Substitute Original Sheet No. 11, with an effective date of July 1, 2000.

Kern River states that the purpose of this filing is to comply with the Commission's letter order in this proceeding, which directed Kern River to file a revised Sheet No. 11 to include a page number reference for the transportation service request form.

Kern River states that it has served a copy of this filing upon each person designated on the official service list compiled by the Secretary in this proceeding.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rimbs.htm (call 202-208-2222 for assistance).

David P. Boergers,
Secretary.

[FR Doc. 00-18506 Filed 7-20-00; 8:45 am]

BILLING CODE 6717-01-M